FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants

Logistics Advantage, Inc., 1805 South Elm Street, Alhambra, CA 91803, Officer: Frank Wong, President, (Qualifying Individual)

Principal Container Line Inc., 515 N. Sam Houston Parkway East, Suite 175, Houston, TX 77060, Officers: Jerome (Joe) Sopher, President, (Qualifying Individual), Noel McEvoy, Director

Cargo Express Northwest, Inc., 354 NE Greenwood Ave., Suite 207, Bend, Oregon 97701, Officers: Joseph M. Pfender, President, (Qualifying Individual), Robert Pfender, Director

Port of Palm Cold Storage, 1016 Clemons Street, Suite 400, Jupiter, FL 33477, Officer: Michael K. Drew, President, (Qualifying Individual)

Non-Vessel Operating Common Carrier and Ocean Freight Forwarder Transportation Intermediary Applicants

International Transport Logistics, Inc., 8998-1 Blount Island Blvd., Blount Island Marine Terminal, Jacksonville, FL 32226, Officers: Bernard S. Sain, President, (Qualifying Individual), Jason Sain, Vice President

Trans Port Agencies, Inc., 1204 Lynda Lane, Warminster, PA 18974, Officers: Joseph G. O'Donnell, President, (Qualifying Individual), Theresa A. O'Donnell, Exec. Vice President

Air Sea Cargo Network, Inc., 33511 Western Avenue, Union City, CA 94587, Officers: Y. Elizabeth Searle, President, (Qualifying Individual), Robert G. Searle, Vice President

Dated: July 7, 2000.
Theodore A. Zook,
Assistant Secretary.

[FR Doc. 00-17650 Filed 7-12-00; 8:45 am]

BILLING CODE 6730-01-P